DEPARTMENT OF TRANSPORTATION

National Highway Traffic Safety Administration

[Docket No. NHTSA-2025-0523]

Zoox, Inc.—Receipt of Application for Temporary Exemption From Various Requirements of the Federal Motor Vehicle Safety Standards for an Automated Driving System-Equipped Vehicle

AGENCY: National Highway Traffic Safety Administration (NHTSA), Department of Transportation (DOT).

ACTION: Notice of receipt of application for temporary exemption.

SUMMARY: NHTSA has received an application from Zoox, Inc. (“Zoox”) for a temporary exemption from several Federal Motor Vehicle Safety Standards (“FMVSS”) applicable to its passenger car equipped with an automated driving system (“ADS”). NHTSA is reviewing Zoox's application and will publish a subsequent notice seeking public comment on the merits of the application after the agency conducts its initial review.

ADDRESSES: To view Zoox's application materials, you may access the docket identified in the heading of this document at http://www.regulations.gov. Alternatively, you may view the docket materials at 1200 New Jersey Avenue SE, West Building Ground Floor, Room W12-140, Washington, DC 20590, between 9 a.m. and 5 p.m., Monday through Friday, except Federal Holidays.

FOR FURTHER INFORMATION CONTACT: For legal issues: Callie Roach, Office of the Chief Counsel at Callie.Roach@dot.gov. For technical issues: Andrew Magaletti, Rulemaking Office of Automation Safety at Andrew.Magaletti@dot.gov. Mailing address: National Highway Traffic Safety Administration, 1200 New Jersey Avenue SE, Washington, DC 20590. Telephone number: (202) 366-1810.

SUPPLEMENTARY INFORMATION: Zoox has applied for a temporary exemption from several FMVSS pursuant to 49 U.S.C. 30113(b) and 49 CFR part 555 to deploy vehicles operated using an ADS without a human driver onboard. Specifically, Zoox requests exemptions from certain requirements of FMVSS No. 103, Windshield defrosting and defogging systems; FMVSS No. 104, Windshield wiping and washing systems; FMVSS No. 108, Lamps, reflective devices, and associated equipment; FMVSS No. 111, Rear visibility; FMVSS No. 135, Light vehicle brake systems; FMVSS No. 201, Occupant protection in interior impact; FMVSS No. 205, Glazing materials; and FMVSS No. 208; Occupant crash protection.

A copy of Zoox's application is available in the docket referenced at the beginning of this notice. In accordance with statutory and administrative provisions, this application contains redactions for portions of information for which Zoox has requested confidential treatment. See 49 CFR part 512.

NHTSA has not yet reached any conclusion on the merits of Zoox's application. During the evaluation process, the agency may request additional information from the applicant. When NHTSA believes it has received adequate information to consider the merits of Zoox's application, it will update the docket with any additional information received from Zoox and will publish a separate notice seeking public comment on all provided materials. After considering public comments and other available information, NHTSA will decide whether to grant or deny the petition and will publish its decision in the Federal Register.

Authority: 49 U.S.C. 30113; 49 CFR part 555; delegation of authority at 49 CFR 1.95, 501.5, and 501.8.

David M. Hines,
Acting Associate Administrator for Rulemaking.

[FR Doc. 2025-18668 Filed 9-24-25; 8:45 am]

BILLING CODE 4910-59-P